DEPARTMENT OF THE TREASURY

Submission for OMB Review; Comment Request

December 12, 2012.

The Department of the Treasury will submit the following information collection request to the Office of Management and Budget (OMB) for review and clearance in accordance with the Paperwork Reduction Act of 1995, Public Law 104-13, on or after the date of publication of this notice.

DATES: Comments should be received on or before January 16, 2013 to be assured of consideration.

ADDRESSES: Send comments regarding the burden estimate, or any other aspect of the information collection, including suggestion for reducing the burden, to (1) Office of Information and Regulatory Affairs, Office of Management and Budget, Attention: Desk Officer for Treasury, New Executive Office Building, Room 10235, Washington, DC 20503, or email at OIRA_Submission@OMB.EOP.GOV and (2) Treasury PRA Clearance Officer, 1750 Pennsylvania Ave. NW., Suite 8140, Washington, DC 20220, or email at PRA@treasury.gov.

FOR FURTHER INFORMATION CONTACT: Copies of the submission(s) may be obtained by calling (202) 927-5331, email at PRA@treasury.gov, or the entire information collection request maybe found at www.reginfo.gov.

Office of International Affairs

OMB Number: 1505-0146.

Type of Review: Revision of a currently approved collection.

Title: Survey of U.S. Ownership of Foreign Securities.

Form: TDF-SHC, TDF-SHCA.

Abstract: The survey will collect information on U.S. holdings of foreign securities. The information will be used in the computation of the U.S. balance of payments accounts and international investments position, as well as in the formulation of U.S. financial and monetary policies. This survey is also part of an international effort coordinated by the IMF to improve worldwide balance of payments statistics. Respondents are primarily the largest banks, securities dealers, and investors.

Affected Public: Private Sector: Businesses or other for-profits.

Estimated Total Burden Hours: 63,202.

Dawn D. Wolfgang,
Treasury PRA Clearance Officer.

[FR Doc. 2012-30291 Filed 12-14-12; 8:45 am]

BILLING CODE 4810-25-P